DEPARTMENT OF STATE

[Public Notice 3225]

Bureau of Educational and Cultural Affairs; Partners in Education Program; Notice: Amendment to Original Request for Proposals (RFPs)

SUMMARY: The United States Department of State, Bureau of Educational and Cultural Affairs, announces revisions to the original RFP announced in the Federal Register on December 15, 1999:

(1) Due to funding cuts, the overall budget for programming and administration has decreased from $1,420,000 to $1,125,000; therefore, the number of participants has been lowered correspondingly. The NIS teacher/administrator/trainer exchange should now involve approximately 36 Russian, 25 Ukrainian, 14 Kyrgyz and 10 Uzbek participants. The US teacher exchange now involves approximately 20. The NIS directors exchange remains at approximately 22 but also involves 4 interpreters. The Bureau reserves the right to adjust the budget further in accordance with availability of funds.

(2) The following program costs are corrected from the original RFP:

I. NIS teacher/administrator/trainer component: $6,720 per person × 85 participants = $571,200.

II. US teacher component: $3,000 per person × 20 participants = $60,000.

III. NIS Directors component: $6,900 per person × 26 (22 participants + 4 interpreters) = $179,400.

IV. General Program Costs: $52,070.

Total program costs + administrative costs = $1,125,000.

(3) NIS teacher/administrator/trainer component host site financial incentive: $9,000 (originally $5,000). This amount is included in the per participant program cost.

(4) Deadline for proposals has been moved from Monday, February 28 to Monday, March 20, 2000.

FOR FURTHER INFORMATION CONTACT: Interested organizations should contact Rachel Waldstein, U.S. Department of State, Office of Global Educational Programs, Teacher Exchange Branch, 202-619-4568 prior to Monday, March 20, 2000.

Dated: February 7, 2000.
Evelyn S. Lieberman,
Under Secretary for Public Diplomacy and Public Affairs, Department of State.

[FR Doc. 00-3685 Filed 2-16-00; 8:45 am]

BILLING CODE 4710-11-P